DEPARTMENT OF COMMERCE

National Oceanic and Atmospheric Administration

50 CFR Part 226

RIN 0648-BD27

Proposed Designation of Marine Critical Habitat for the Loggerhead Sea Turtle, Caretta caretta, Under the Endangered Species Act; Public Hearing

AGENCY: National Marine Fisheries Service (NMFS), National Oceanic and Atmospheric Administration (NOAA), Commerce.

ACTION: Notice of public hearings.

SUMMARY: We, NMFS, will hold public hearings related to our Proposed Designation of Marine Critical Habitat for the Loggerhead Sea Turtle, Caretta caretta, under the Endangered Species Act (ESA).

DATES: The public hearings will be held on September 9 and 10, 2013, from 7 p.m. to 9 p.m., with doors opening at 6:30 p.m.

ADDRESSES: The hearings will be held at:

• University of North Carolina-Wilmington, Warwick Center, Ballroom 5, 629 Hamilton Drive, Wilmington, NC 28403 on September 9.

• Crystal Coast Civic Center, 3505 Arendell Street, Morehead City, NC 28557 on September 10.

FOR FURTHER INFORMATION CONTACT: Susan Pultz, NMFS Office of Protected Resources, Silver Spring, MD, telephone: 301-427-8472, email: susan.pultz@noaa.gov; or Therese Conant, NMFS Office of Protected Resources, Silver Spring, MD, telephone: 301-427-8456, or therese.conant@noaa.gov.

SUPPLEMENTARY INFORMATION:

Background

NMFS staff will present a brief overview of the Proposed Rule titled Designation of Critical Habitat for the Northwest Atlantic Ocean Loggerhead Sea Turtle Distinct Population Segment (DPS) and Determination Regarding Critical Habitat for the North Pacific Ocean Loggerhead DPS. Following this overview, members of the public will have the opportunity to go on record with comments on the proposed designation. Members of the public may also submit written comments at the hearing, or via the Federal e-Rulemaking Portal. To do the latter, go to www.regulations.gov/#!docketDetail;D=NOAA-NMFS-2013-0079, click the “Comment Now!” icon, complete the required fields, and enter or attach our comments. The proposed rule was published in the Federal Register on July 18, 2013 (78 FR 43006) and may be obtained at https://www.federalregister.gov/articles/2013/07/18/2013-17204/endangered-and-threatened-species-designation-of-critical-habitat-for-the-northwest-atlantic-ocean. More information and background documents can be found at http://www.nmfs.noaa.gov/pr/species/turtles/loggerhead.htm.

Speaker Sign Up

Doors will open for registration at 6:30 p.m. for sign-up and seating. Time allotted will depend upon the number of speakers but will likely be limited to 5 minutes each. Registered speakers will be asked to indicate their full name, contact information, and the identity of any organizations on whose behalf they may be speaking.

Special Accommodations

The meeting is physically accessible to people with disabilities. Requests for auxiliary aids should be directed to Susan Pultz (see ADDRESSES) 3 days prior to the meeting.

Authority: 16 U.S.C. 1531 et seq.

Dated: August 15, 2013.
P. Michael Payne,
Acting Deputy Director, Office of Protected Resources, National Marine Fisheries Service.

[FR Doc. 2013-20229 Filed 8-20-13; 8:45 am]

BILLING CODE 3510-22-P